DEPARTMENT OF LABOR

Employment and Training Administration

[TA-W-37,063 and NAFTA-3605]

Kellogg Company, South Operations Plant, Battle Creek, Michigan; Notice of Revised Determination on Reconsideration

On March 21, 2000, the Department issued an Affirmative Determination Regarding Application for Reconsideration with respect to the workers and former workers of the subject firm. The Department determined that the Bakery, Confectionery, Tobacco Workers and Grain Millers International Union, Local 3-G, assertion that the effects of a transfer of production equipment to Mexico warranted further investigation. The notice was published in the Federal Register on March 31, 2000 (65 FR 17311).

The February 10, 2000, negative determination regarding TAA was based upon the finding that the “contributed importantly” test of the Group Eligibility Requirements of the Trade Act of 1974, as amended, was not met. The investigation revealed that sales and production of cereal remained relatively constant from 1997 through September 1999 and that company imports relative to domestic production had declined slightly in recent years. Separations at the Battle Creek, Michigan plant were attributed to a domestic shift in production.

The February 10, 2000, negative determination regarding NAFTA-TAA was based upon the finding that criteria (3) and (4) of paragraph (a)(1) of Section 250 of the Trade Act were not met. The company's reliance on imported cereal from Mexico decreased throughout the relevant period through September 1999. Layoffs were attributable to the transfer of cereal production to other domestic plants.

On reconsideration, the Department requested current information from the subject firm applicable to the time period in which significant worker separations were scheduled to occur. The information provided by Kellogg's applicable to cereal produced by workers at the South Operations Plant, Battle Creek, Michigan, show declines in sales, production, employment. Additional information reveals that, although it remains apparent that a significant portion of former production of the South Operations Plant is being transferred domestically, there has been an increase in company imports of cereal from Mexico or Canada relative to domestic production since the phase down of production at the South Operations Plant began.

Conclusion

After careful consideration of the new facts obtained on reconsideration, it is concluded that the workers of Kellogg Company, South Operations Plant, Battle Creek, Michigan, were adversely affected by increased imports, including those from Mexico or Canada, of articles like or directly competitive with those produced at the subject firm.

All workers of Kellogg Company, South Operations Plant, Battle Creek, Michigan, engaged in employment related to the production of cereal, who became totally or partially separated from employment on or after October 29, 1998 through two years from the date of this issuance are eligible to apply for adjustment assistance under Section 223 of the Trade Act of 1974.

All workers of Kellogg Company, South Operations Plant, Battle Creek, Michigan, engaged in employment related to the production of cereal, who became totally or partially separated from employment on or after November 23, 1998, through two years from the date of this issuance are eligible to apply for NAFTA-TAA under Section 250 of the Trade Act of 1974.

Signed at Washington, DC, this 11th day of April 2000.
Grant D. Beale,
Program Manager, Division of Trade Adjustment Assistance.

[FR Doc. 00-9971 Filed 4-20-00; 8:45 am]

BILLING CODE 4510-30-M